FEDERAL COMMUNICATIONS COMMISSION

47 CFR Part 73

[DA 07-2855; MB Docket No. 07-124; RM-11378]

Radio Broadcasting Services; Dallas and Waldport, OR

AGENCY: Federal Communications Commission.

ACTION: Proposed rule.

SUMMARY: This document sets forth a proposal to amend the FM Table of Allotments, Section 73.202(b) of the Commission's rules, 47 CFR 73.202(b). The Commission requests comment on a petition filed by Radio Beam, LLC. Petitioner proposes the allotment of Channel 253A at Waldport, Oregon, as a first local service. In order to accommodate the proposed allotment, petitioner further requests the substitution of noncommercial educational Channel 236C3 for vacant noncommercial educational Channel 252C3 at Dallas, Oregon. In order to accommodate those two proposed changes in the FM Table of Allotments, petitioner also proposes the substitution of Channel 252C3 for Channel 236C3 at Monmouth, Oregon, and the modification of the license for Station KSND (FM) accordingly. Channel 253A can be allotted at Waldport in compliance with the Commission's minimum distance separation requirements with a site restriction of 8.3 km (5.2 miles) north of Waldport. The proposed coordinates for Channel 253A at Waldport are 44-30-06 North Latitude and 124-04-30 West Longitude. Channel 236C3 can be allotted at Dallas in compliance with the Commission's minimum distance separation requirements with a site restriction of 16.9 km (10.5 miles) southwest of Dallas. The proposed coordinates for Channel 236C3 at Dallas are 44-50-43 North Latitude and 123-30-07 West Longitude. See SUPPLEMENTARY INFORMATION infra.

DATES: Comments must be filed on or before October 22, 2007, and reply comments on or before November 6, 2007.

ADDRESSES: Federal Communications Commission, Washington, DC 20554. In addition to filing comments with the FCC, interested parties should serve the designated petitioner as follows: Earnest R. Hopseker, Member and Manager, Radio Beam, LLC, 4524 132nd Avenue, SE., Bellevue, Washington 98006.

FOR FURTHER INFORMATION CONTACT: Deborah A. Dupont, Media Bureau (202) 418-7072.

SUPPLEMENTARY INFORMATION: This is a synopsis of the Commission's Notice of Proposed Rule Making, MB Docket No. 07-124, adopted June 27, 2007, released June 29, 2007, and corrected August 31, 2007. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(C)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by removing Channel *252C3 and by adding Channel *236C3 at Dallas, and adding Channel 253A at Waldport.

Federal Communications Commission.
John A. Karousos,
Assistant Chief, Audio Division, Media Bureau.

[FR Doc. E7-17892 Filed 9-12-07; 8:45 am]

BILLING CODE 6712-01-P